DEPARTMENT OF TRANSPORTATION

Federal Aviation Administration

[Docket No. FAA-2020-1046]

Agency Information Collection Activities: Requests for Comments; Clearance of Renewed Approval of Information Collection: Federal Aviation Regulation Part 119—Certification: Air Carriers and Commercial Operators

AGENCY: Federal Aviation Administration (FAA), DOT.

ACTION: Notice and request for comments.

SUMMARY: In accordance with the Paperwork Reduction Act of 1995, FAA invites public comments about our intention to request the Office of Management and Budget (OMB) approval to renew an information collection. Organizations that desire to become or remain certified as air carriers or commercial operators are mandated to report information to the FAA. The information collected reflects requirements necessary under parts 135, 121, and 125 to comply with Federal Aviation Regulation part 119—Certification: Air Carriers and Commercial Operators. The FAA will use the information it collects and reviews to ensure compliance and adherence to regulations and, if necessary, to take enforcement action on violators of the regulations.

DATES: Written comments should be submitted by January 4, 2021.

ADDRESSES: Please send written comments:

By Electronic Docket: www.regulations.gov (Enter docket number into search field)

By mail: Sandra Ray, Federal Aviation Administration, Policy Integration Branch AFS-270, 1187 Thorn Run Road, Suite 200, Coraopolis, PA 15108

By fax: 412-239-3063.

FOR FURTHER INFORMATION CONTACT: Steve Hanes by email at: steven.a.hanes@faa.gov; phone: 517-260-9179.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0593.

Title: Federal Aviation Regulation part 119—Certification: Air Carriers and Commercial Operators.

Form Numbers: N/A.

Type of Review: Renewal of an information collection.

Background: The request for clearance reflects requirements necessary under parts 135, 121, and 125 to comply with part 119. The FAA will use the information it collects and reviews to ensure compliance and adherence to regulations and, if necessary, to take enforcement action on violators of the regulations.

Respondents: 1695 Air Carrier and Commercial Operators.

Frequency: Varies per requirement.

Estimated Average Burden per Response: 5,174.5 Hours.

Estimated Total Annual Burden: $155,016.73.

Issued in Washington, DC, on October 29, 2020.
Sandra L. Ray,
Aviation Safety Inspector, FAA, Policy Integration Branch, AFS-270.

[FR Doc. 2020-24371 Filed 11-3-20; 8:45 am]

BILLING CODE 4910-13-P